ENVIRONMENTAL PROTECTION AGENCY

[FRL-9922-12-OGC]

Proposed Settlement Agreement

AGENCY: Environmental Protection Agency (EPA).

ACTION: Notice of Proposed Settlement Agreement; Request for Public Comment.

SUMMARY: In accordance with section 113(g) of the Clean Air Act, as amended (“Act”), notice is hereby given of a proposed settlement agreement to address lawsuits filed by Cliffs Natural Resources Inc. (“Cliffs”), ArcelorMittal USA LLC (“ArcelorMittal”), the State of Michigan (collectively, the “Petitioners”) in the United States Court of Appeals for the Eighth Circuit: Cliffs Natural Resources Inc., et al., v. EPA, No. 13-1758 (and consolidated case Nos. 13-1761, 13-2126, 13-2129, 13-2130) and Cliffs Natural Resources Inc., et al., v. EPA, No. 13-3573 (and consolidated case Nos. 13-3575, 14-1710, and 14-1712). Petitioners filed petitions for review challenging EPA's final rule entitled “Approval and Promulgation of Air Quality Implementation Plans; States of Minnesota and Michigan; Regional Haze State Implementation Plan; Federal Implementation Plan for Regional Haze” 78 FR 8706 (Feb. 6, 2013) (the “FIP Rule”). Petitioners also filed petitions for review challenging EPA's final rule entitled “Approval and Promulgation of Air Quality Implementation Plans; States of Michigan and Minnesota; Regional Haze,” 78 FR 59825 (Sept. 30, 2013) (the “SIP Rule”). The proposed settlement agreement establishes deadlines for EPA to take actions.

DATES: Written comments on the proposed settlement agreement must be received by March 2, 2015.

ADDRESSES: Submit your comments, identified by Docket ID number EPA-HQ-OGC-2015-0003, online at www.regulations.gov (EPA's preferred method); by email to oei.docket@epa.gov; by mail to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Matthew C. Marks, Air and Radiation Law Office (2344A), Office of General Counsel, U.S. Environmental Protection Agency, 1200 Pennsylvania Ave. NW., Washington, DC 20460; telephone: (202) 564-3276 fax number (202) 564-5603; email address: marks.matthew@epa.gov.

SUPPLEMENTARY INFORMATION:

I. Additional Information About the Proposed Settlement Agreement

The proposed settlement agreement will resolve lawsuits seeking review of EPA's final rules entitled “Approval and Promulgation of Air Quality Implementation Plans; States of Minnesota and Michigan; Regional Haze State Implementation Plan; Federal Implementation Plan for Regional Haze” 78 FR 8706 (Feb. 6, 2013) (the “FIP Rule”), and EPA's final rule entitled “Approval and Promulgation of Air Quality Implementation Plans; States of Michigan and Minnesota; Regional Haze,” 78 FR 59825 (Sept. 30, 2013) (the “SIP Rule”). Petitioners have raised various challenges to the FIP Rule and the SIP Rule associated with taconite facilities located in Minnesota and Michigan.

The proposed settlement agreement states that, no later than June 12, 2015, EPA will sign a notice of proposed rulemaking proposing changes to the FIP Rule that are substantially consistent with, and include numeric emission limits and time frames identical to those set forth in, Attachment A to the Settlement Agreement. The proposed settlement agreement also states that, if EPA signs by December 18, 2015, a final rule amending the FIP Rule that is substantially consistent with, and includes numeric emission limits and time frames identical to those set forth in, Attachment A to the Settlement Agreement, then Petitioners and EPA shall promptly file an appropriate pleading for the dismissal of Case Nos. 13-1758, 13-1761, 13-2126, 13-2129, 13-2130, 13-3573, 13-3575, 14-1710, and 14-1712 with prejudice, with each party to bear its own costs and attorneys' fees. The proposed settlement agreement further states that Petitioners waive any right to challenge in any court or administrative proceeding any portion of that final rule that is substantially consistent with, and includes numeric emission limits and time frames identical to those set forth in, Attachment A to the Settlement Agreement. Finally, the proposed settlement agreement states that nothing in the agreement shall be construed to limit or modify the discretion accorded EPA by the Act or by general principles of administrative law.

For a period of thirty (30) days following the date of publication of this notice, the Agency will accept written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines that consent to this settlement agreement should be withdrawn, the terms of the agreement will be affirmed.

II. Additional Information About Commenting on the Proposed Settlement Agreement

A. How can I get a copy of the settlement agreement?

The official public docket for this action (identified by Docket ID No. EPA-HQ-OGC-2015-0003) contains a copy of the proposed settlement agreement. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, key in the appropriate docket identification number then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: January 22, 2015.
Lorie J. Schmidt,
Associate General Counsel.

[FR Doc. 2015-01784 Filed 1-29-15; 8:45 am]

BILLING CODE 6560-50-P